DEPARTMENT OF COMMERCE

Foreign-Trade Zones Board

[Docket 42-2002]

Foreign-Trade Zone 29—Louisville, KY; Application for Foreign-Trade Subzone Status, Flint Ink North America Corporation, (Pigments, Inks, and Varnish Products), Elizabethtown, KY

An application has been submitted to the Foreign-Trade Zones Board (the Board) by the Louisville and Jefferson County Riverport Authority, grantee of FTZ 29, requesting special-purpose subzone status for the manufacturing and distribution facilities (pigments, inks, and varnish products) of Flint Ink North America Corporation (Flint Ink) in Elizabethtown, Kentucky. The application was submitted pursuant to the Foreign-Trade Zones Act, as amended (19 U.S.C. 81a-81u), and the regulations of the Board (15 CFR part 400). It was formally filed on October 7, 2002.

The Flint Ink facilities are located at two sites in Elizabethtown: (1) 305 Ring Road (2 buildings, 147,694 square feet of enclosed space with possible addition of 138,631 square feet, on 102 acres); and (2) 51 Harvest Drive (3 buildings, 156,600 square feet of enclosed space, on 23 acres). The facilities (175 employees) are used to manufacture, test, package, and warehouse pigments, inks, and varnish products primarily for use by the graphic arts industry.

Foreign-sourced materials account for approximately 10 to 50 percent of the finished-product value of Flint Ink's current products, and may include items from the following categories: Petroleum oils and mineral oils, distillates; hydrogen chloride and chlorosulfuric acid; sodium and potassium hydroxides; chlorides, chloride oxides, chloride hydroxides, bromides, bromide oxides, iodides and iodide oxides; nitrites and nitrates; acyclic alcohols and their derivatives; phenols and phenol-alcohols; ketones, quinines, and their derivatives; polycarboxylic acids and their derivatives; carboxylic acids and their derivatives; amine function compounds; carboxyamide-function compounds and amide-function compounds of carbonic acid; heterocyclic compounds, and nucleic acids and their salts; nucleic acids and their salts, and other heterocyclic compounds; synthetic organic coloring matter, preparations based thereon, and synthetic organic products used as fluorescent brightening agents or luminophores; other coloring matter; printing ink, writing or drawing ink, and other inks; artificial waxes and prepared waxes; rosin, resin, and derivatives thereof; reaction initiators, reaction accelerators, and catalytic preparations; polymers of vinyl chloride or other halogenated olefins in primary forms; polymers of vinyl acetate or other vinyl esters, and other vinyl polymers, in primary forms; petroleum resins, coumarone-indene resins, polyterpenes, polysulfides, polysulfones, and other products in primary forms; and cellulose and its chemical derivatives in primary forms.

Zone procedures would allow the company to choose the duty rates that apply to the finished products (the primary initial finished product has a duty rate of 1.8% ad valorem; potential finished products have rates ranging from duty-free to 9.2%) rather than the duty rates that would otherwise apply to the foreign-sourced materials noted above (duty-free to 9.2%; average of 7%). This savings from inverted tariffs would be the primary benefit derived from subzone status. FTZ procedures would also exempt Flint Ink from Customs duty payments on foreign materials used in production for export. In addition, Flint Ink states that it would realize logistical/procedural and other benefits. FTZ status may also make a site eligible for benefits provided under state/local programs. The application indicates that the savings from zone procedures will help improve the plant's international competitiveness.

In accordance with the Board's regulations, a member of the FTZ Staff has been designated examiner to investigate the application and report to the Board. Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is December 16, 2002. Rebuttal comments in response to material submitted during the foregoing period may be submitted during the subsequent 15-day period to December 31, 2002.

A copy of the application and accompanying exhibits will be available for public inspection at the Office of the Foreign-Trade Zones Board's Executive Secretary at address Number 1 listed above, and at the U.S. Department of Commerce Export Assistance Center, 601 West Broadway, Room 634B, Louisville, KY 40202.

Dated: October 10, 2002.
Dennis Puccinelli,
Executive Secretary.

[FR Doc. 02-26413 Filed 10-16-02; 8:45 am]

BILLING CODE 3510-DS-P